DEPARTMENT OF THE INTERIOR

Fish and Wildlife Service

Draft Recovery Plan for Listed Species of the Rogue Valley Vernal Pool and Illinois Valley Wet Meadow Ecosystems

AGENCY: Fish and Wildlife Service, Interior.

ACTION: Notice of document availability for review and comment.

SUMMARY: The U.S. Fish and Wildlife Service (“we”) announces the availability of the Draft Recovery Plan for Listed Species of the Rogue Valley Vernal Pool and Illinois Valley Wet Meadow Ecosystems for public review and comment.

DATES: Comments on the draft recovery plan must be received on or before November 21, 2006.

ADDRESSES: Copies of the draft recovery plan are available by request from the U.S. Fish and Wildlife Service, Roseburg Field Office, 2900 NW., Stewart Parkway, Roseburg, Oregon 97470 (phone: 541-957-3474). Written comments and materials regarding this draft recovery plan should be addressed to the Field Supervisor at the above Roseburg address. An electronic copy of the draft recovery plan is also available at http://endangered.fws.gov/recovery/index.html#plans.

FOR FURTHER INFORMATION CONTACT: Sam Friedman, Botanist, at the above Roseburg address.

SUPPLEMENTARY INFORMATION:

Background

Restoring endangered or threatened animals and plants to the point where they are again secure, self-sustaining members of their ecosystems is a primary goal of our endangered species program. The Endangered Species Act (16 U.S.C. 1531 et seq.) (ESA) requires the development of recovery plans for listed species unless such a plan would not promote the conservation of a particular species. Recovery plans help guide the recovery effort by describing actions considered necessary for the conservation of the species, establishing criteria for downlisting or delisting listed species, and estimating time and cost for implementing the measures needed for recovery.

Section 4(f) of the ESA requires that public notice, and an opportunity for public review and comment, be provided during recovery plan development. We will consider all information presented during the public comment period prior to approval of each new or revised recovery plan. Substantive comments on the recovery needs of the species or other aspects of recovery plan development may result in changes to the recovery plan. Substantive comments regarding recovery plan implementation may not necessarily result in changes to the recovery plan, but will be forwarded to appropriate Federal or other entities so that they can take these comments into account during the course of implementing recovery actions. Individual responses to comments will not be provided.

Two federally endangered plant species that are endemic to southern Oregon are the primary focus of this draft recovery plan: Limnanthes floccosa ssp. grandiflora (large-flowered woolly meadowfoam) and Lomatium cookii (Cook's lomatium). Site-specific information and recovery actions are also provided for one federally threatened animal, the vernal pool fairy shrimp (Branchinecta lynchi). In addition, site-specific information and recommendations for long term conservation are provided for nine species of conservation concern.

The species addressed in this draft recovery plan occur in vernal pool, swale, or seasonal wet meadow habitats within southern Oregon and are largely confined to limited areas by topographic constraints, soil types, and climatic conditions. Surrounding (or associated) upland habitat is critical to the proper ecological function of these vernal pool habitats. Most of the vernal pool plants and animals addressed in the draft recovery plan have life histories adapted to the short period for growth and reproduction within inundated or drying pools and meadows interspersed with long dormant periods and extreme year-to-year variation in rainfall.

The recovery actions described in this draft recovery plan include: (1) Protection, management, and restoration of vernal pool and wet meadow habitat; (2) population status surveys and monitoring; (3) research on biology and management of the species; and (4) enhancement of public awareness and participation in species recovery.

The objective of this recovery plan is to recover the two endangered plants and the threatened animal species sufficiently to warrant delisting, and to ensure the long-term conservation of the nine taxa of concern. An interim goal is to downlist Lomatium cookii and Limnanthes floccosa ssp. grandiflora from endangered to threatened status.

Public Comments Solicited

We solicit written comments on the draft recovery plan described. All comments received by the date specified above will be considered prior to approval of this plan.

Our practice is to make comments, including names and home addresses of respondents, available for public review during regular business hours. Individual respondents may request that we withhold their home addresses from the record, which we will honor to the extent allowable by law. There also may be circumstances in which we would withhold from the record a respondent's identity, as allowable by law. If you wish us to withhold your name and/or address, you must state this prominently at the beginning of your comment, and you must provide a rationale for withholding this information, but you should be aware that we may be required to disclose your name and address pursuant to the Freedom of Information Act. However, we will not consider anonymous comments. We will make all submissions from organizations or businesses, and from individuals identifying themselves as representatives or officials of organizations or businesses, available for public inspection in their entirety. Comments and materials received will be available for public inspection, by appointment, during normal business hours at the above address.

Authority

The authority for this action is section 4(f) of the Endangered Species Act, 16 U.S.C. 1533(f).

Dated: June 28, 2006.
David J. Wesley,
Acting Regional Director, Region 1, U.S. Fish and Wildlife Service.

[FR Doc. 06-8047 Filed 9-21-06; 8:45 am]

BILLING CODE 4310-55-P